DEPARTMENT OF THE INTERIOR

Fish and Wildlife Service

[Docket No. FWS-HQ-IA-2017-0098; Docket No. FWS-HQ-IA-2017-0064; FXIA16710900000-178-FF09A30000]

Endangered Species; Receipt of Permit Applications

AGENCY: Fish and Wildlife Service, Interior.

ACTION: Notice of receipt of permit applications.

SUMMARY: We, the U.S. Fish and Wildlife Service, invite the public to comment on applications to conduct certain activities with foreign endangered species. With some exceptions, the Endangered Species Act (ESA) prohibits activities with listed species unless Federal authorization is acquired that allows such activities. The ESA also requires that we invite public comment before issuing these permits.

DATES: We must receive comments by May 3, 2018.

ADDRESSES:

Document availability: The applications, as well as any comments and other materials that we receive, will be available for public inspection online in Docket No. FWS-HQ-IA-2017-0098 or Docket No. FWS-HQ-IA-2017-0064 (as appropriate) at http://www.regulations.gov.

Submitting Comments: You may submit comments by one of the following methods:

• Federal eRulemaking Portal: http://www.regulations.gov. Follow the instructions for submitting comments on Docket No. FWS-HQ-IA-2017-####. (Search under appropriate docket number, which can be found under SUPPLEMENTARY INFORMATION, III., Permit Applications.)

• U.S. mail or hand-delivery: Public Comments Processing, Attn: Docket No. FWS-HQ-IA-2017-####; U.S. Fish and Wildlife Service Headquarters, MS: BPHC; 5275 Leesburg Pike, Falls Church, VA 22041-3803. (Note: Insert appropriate docket number, which can be found under SUPPLEMENTARY INFORMATION, III., Permit Applications.)

When submitting comments, please indicate the name of the applicant and the PRT# at the beginning of your comment. We will post all comments on http://www.regulations.gov. This generally means that we will post any personal information you provide us (see SUPPLEMENTARY INFORMATION for more information).

FOR FURTHER INFORMATION CONTACT: Joyce Russell, 703-358-2280.

SUPPLEMENTARY INFORMATION:

I. Public Comment Procedures

A. How do I comment on submitted applications?

You may submit your comments and materials by one of the methods listed under Submitting Comments in the ADDRESSES section. We will not consider comments sent by email or fax, or to an address not in the ADDRESSES section.

Please make your requests or comments as specific as possible, confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above in ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

To help us carry out our conservation responsibilities for affected species, and in consideration of section 10(a)(1)(A) of the Endangered Species Act of 1973, as amended (16 U.S.C. 1531 et seq.; ESA), we invite public comment on these permit applications before final action is taken.

III. Permit Applications

We invite the public to comment on applications to conduct certain activities with endangered species. With some exceptions, the ESA prohibits activities with listed species unless Federal authorization is acquired that allows such activities.

Applicant: B Bryan Preserve LLC, Point Arena, CA; PRT-MA117577 (Docket No. FWS-HQ-IA-2017-0098)

The applicant requests a captive-bred wildlife registration under 50 CFR 17.21(g) for the following species to enhance species propagation or survival: Grevy's zebra (Equus grevyi), Hartmann's mountain zebra (Equus zebra hartmannae), and eastern black rhinoceros (Diceros bicornis michaeli). This notification covers activities to be conducted by the applicant over a 5-year period.

Applicant: Tanganyika Wildlife Foundation, Goddard, KS; PRT-MA724896 (Docket No. FWS-HQ-IA-2017-0098)

The applicant requests a renewal/amendment to a captive-bred wildlife registration under 50 CFR 17.21(g) for the following species to enhance species propagation or survival: African penguin (Spheniscus demersus), ring-tailed lemur (Lemur catta), red-ruffed lemur (Varecia rubra), Diana monkey (Cercopithecus diana diana), mandrill (Mandrillus sphinx), lar gibbon (Hylobates lar), siamang (Hylobates syndactylus), clouded leopard (Neofelis nebulosa), snow leopard (Uncia uncia), spotted leopard (Panthera pardus), cheetah (Acinonyx jubatus), Asian tapir (Tapirus indicus), black rhinoceros (Diceros bicornis), Indian rhinoceros (Rhinoceros unicornis), southern white rhinoceros (Ceratotherium simum simum), Grevy's zebra (Equus grevyi), Arabian oryx (Oryx leucoryx), and red lechwe (Kobus lechwe). This notification covers activities to be conducted by the applicant over a 5-year period.

Applicant: Denver Zoological Foundation, d/b/a Denver Zoo, Denver, CO; PRT-32977C (Docket No. FWS-HQ-IA-2017-0064)

In the Federal Register of October 23, 2017 (82 FR 49041), we published a notice inviting the public to comment on an application that we received from Denver Zoological Foundation, Denver, CO. We are reopening the comment period on that application. The applicant requests a permit to import two male captive-bred Asian elephants (Elephas maximus) from African Lion Safari, Ontario, Canada, to enhance the propagation or survival of the species. This notification is for a single import.

If you wish to make comments, go to the Federal eRulemaking Portal (http://www.regulations.gov) and follow the instructions for submitting comments on Docket No. FWS-HQ-IA-2017-0064. Note: We are not reopening the comment periods of any of the other applications announced in the Federal Register notice of October 23, 2017.

IV. Next Steps

If the Service decides to issue permits to any of the applicants listed in this notice, we will publish a notice in the Federal Register. You may locate the Federal Register notice announcing the permit issuance date by searching in www.regulations.gov under the permit number listed in this document (e.g., PRT-12345X).

VI. Authority

Endangered Species Act of 1973 (16 U.S.C. 1531 et seq.).

Joyce Russell,
Government Information Specialist, Branch of Permits, Division of Management Authority.

[FR Doc. 2018-06680 Filed 4-2-18; 8:45 am]

BILLING CODE 4333-15-P